DEPARTMENT OF COMMERCE

International Trade Administration

[A-122-822, A-122-823]

Certain Corrosion-Resistant Carbon Steel Flat Products and Certain Cut-to-Length Carbon Steel Plate From Canada: Extension of Time Limits for Preliminary Results of Antidumping Administrative Review

AGENCY: Import Administration, International Trade Administration, Department of Commerce.

EFFECTIVE DATE: March 1, 2001.

FOR FURTHER INFORMATION CONTACT: Abdelali Elouaradia, Import Administration, International Trade Administration, U.S. Department of Commerce, 14th Street and Constitution Avenue, NW., Washington, DC 20230; telephone: (202) 482-1374.

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (2000).

Background

Based on timely requests by petitioners and respondents in both proceedings, the Department published its initiation of this antidumping duty administrative review covering the period of August 1, 1999 through July 31, 2000 (65 FR 58733) on October 2, 2000.

Extension of Time Limits for Preliminary Results

Due to the complex issues involved with this case, we find that it is not practicable to make a preliminary determination by the current deadline of May 3, 2001. Therefore, in accordance with section 751(a)(3)(A) of the Act and section 351.213(h)(2) of the Department's regulations, the Department is extending the time limits for the preliminary results for 120 days, until no later than August 31, 2001.

Dated: February 23, 2001.
Joseph A. Spetrini,
Deputy Assistant Secretary, AD/CVD Enforcement Group III.

[FR Doc. 01-5016 Filed 2-28-01; 8:45 am]

BILLING CODE 3510-DS-P